DEPARTMENT OF ENERGY

Federal Energy Regulatory Commission

Combined Notice of Filings

Take notice that the Commission has received the following Natural Gas Pipeline Rate and Refund Report filings:

Filings Instituting Proceedings

Docket Number: PR18-69-000.

Applicants: Red Bluff Express Pipeline, LLC.

Description: Tariff filing per 284.123(b),(e)/: Red Bluff Express Pipeline, LLC Rate Election & Baseline SOC, to be effective 6/23/2018.

Filed Date: 7/23/18.

Accession Number: 201807235195.

Comments/Protests Due: 5 p.m. ET 8/13/18.

Docket Number: PR18-70-000.

Applicants: Duke Energy Kentucky, Inc.

Description: Tariff filing per 284.123(b)(2)+(: 2018 Application for Rate Approval to be effective 7/25/2018.

Filed Date: 7/24/18.

Accession Number: 201807245055.

Comments/Protests Due: 5 p.m. ET 8/14/18.

Docket Numbers: RP18-997-000.

Applicants: Big Sandy Pipeline, LLC.

Description: Compliance filing Big Sandy Fuel Filing effective 9/1/2018.

Filed Date: 7/26/18.

Accession Number: 20180726-5129.

Comments Due: 5 p.m. ET 8/7/18.

Docket Numbers: RP18-998-000.

Applicants: Florida Southeast Connection, LLC.

Description: § 4(d) Rate Filing: Negotiated Rate Filing—FPL 4001-B to be effective 9/1/2018.

Filed Date: 7/26/18.

Accession Number: 20180726-5185.

Comments Due: 5 p.m. ET 8/7/18.

Docket Numbers: RP18-999-000.

Applicants: Millennium Pipeline Company, LLC.

Description: § 4(d) Rate Filing: RAM 2018—Periodic RAM Adjustment to be effective 9/1/2018.

Filed Date: 7/27/18.

Accession Number: 20180727-5085.

Comments Due: 5 p.m. ET 8/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2018.
Nathaniel J. Davis, Sr.,
Deputy Secretary.

[FR Doc. 2018-16633 Filed 8-2-18; 8:45 am]

BILLING CODE 6717-01-P